DEPARTMENT OF ENERGY

Federal Energy Regulatory Commission

[Docket Nos. RP02-453-001 and RP03-483-001]

Northwest Pipeline Corporation; Notice of Park and Loan Activity Report

November 14, 2003.

Take notice that on November 7, 2003, Northwest Pipeline Corporation (Northwest) tendered for filing a Park and Loan Activity Report.

Northwest states that this report complies with the Commission's Orders dated September 25, 2002 in Docket No. RP02-453-000 and June 25, 2003 in Docket No. RP03-483-000 wherein the Commission directed Northwest to file an activity report detailing Northwest's experience with the implementation of park and loan service.

Northwest states that the Park and Loan Activity Report reflects 12 months experience with park and loan service at the Clay Basin points and 3 months experience with park and loan service at the Jackson Prairie points.

Northwest states that a copy of this filing has been served upon each person designated on the official service list complied by the Secretary in this proceeding.

Any person desiring to protest said filing should file a protest with the Federal Energy Regulatory Commission, 888 First Street, NE., Washington, DC 20426, in accordance with section 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “eLibrary” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the eLibrary link.

Protest Date: November 21, 2003.

Magalie R. Salas,
Secretary.

[FR Doc. E3-00347 Filed 11-20-03; 8:45 am]

BILLING CODE 6717-01-P